DEPARTMENT OF ENERGY

Federal Energy Regulatory Commission

Combined Notice of Filings #1

Take notice that the Commission received the following electric rate filings:

Docket Numbers: ER12-673-005; ER12-672-005; ER10-1908-008; ER10-1909-008; ER10-1910-008; ER10-1911-008; ER10-1533-009; ER10-2374-007; ER12-674-006; ER12-670-006.

Applicants: Brea Generation LLC, Brea Power II, LLC, Duquesne Conemaugh, LLC, Duquesne Keystone, LLC, Duquesne Light Company, Duquesne Power, LLC, Macquarie Energy LLC, Puget Sound Energy, Inc., Rhode Island Engine Genco, LLC, Rhode Island LFG Genco, LLC.

Description: Notice of Non-Material Change in Status of Brea Generation LLC, et. al.

Filed Date: 7/28/14.

Accession Number: 20140728-5069.

Comments Due: 5 p.m. ET 8/18/14.

Docket Numbers: ER14-2140-001.

Applicants: Mulberry Farm, LLC.

Description: Supplement Filing to Baseline Filing to be effective 10/1/2014.

Filed Date: 7/28/14.

Accession Number: 20140728-5001.

Comments Due: 5 p.m. ET 8/18/14.

Docket Numbers: ER14-2141-001.

Applicants: Selmer Farm, LLC.

Description: Supplement to Baseline Filing 2-Selmer Farm, LLC to be effective 10/1/2014.

Filed Date: 7/28/14.

Accession Number: 20140728-5000.

Comments Due: 5 p.m. ET 8/18/14.

Docket Numbers: ER14-2290-001.

Applicants: Josco Energy Corp.

Description: Josco MBR Supplement to be effective 8/11/2014.

Filed Date: 7/25/14.

Accession Number: 20140725-5136.

Comments Due: 5 p.m. ET 8/15/14.

Docket Numbers: ER14-2338-002.

Applicants: Wisconsin Electric Power Company.

Description: Wisconsin Electric and WPPI RS FERC No 90-2014 revisions second amended to be effective 8/29/2014.

Filed Date: 7/23/14.

Accession Number: 20140723-5077.

Comments Due: 5 p.m. ET 8/13/14.

Docket Numbers: ER14-2511-000.

Applicants: New York Independent System Operator, Inc.

Description: Administrative Correction MST 2.13 Definition of Modified Wheeling Agreement to be effective 7/25/2014.

Filed Date: 7/25/14.

Accession Number: 20140725-5134.

Comments Due: 5 p.m. ET 8/15/14.

Docket Numbers: ER14-2512-000.

Applicants: Pacific Gas and Electric Company.

Description: Lathrop Irrigation District Engineering Agreement to be effective 7/29/2014.

Filed Date: 7/28/14.

Accession Number: 20140728-5004.

Comments Due: 5 p.m. ET 8/18/14.

Docket Numbers: ER14-2513-000.

Applicants: Public Service Company of New Hampshire.

Description: Design and Engineering Agreement for New Hampshire Electric Cooperative to be effective 7/29/2014.

Filed Date: 7/28/14.

Accession Number: 20140728-5038.

Comments Due: 5 p.m. ET 8/18/14.

Take notice that the Commission received the following land acquisition reports:

Docket Numbers: LA14-2-000.

Applicants: Wellhead Power Development, LLC.

Description: Quarterly Land Acquisition Report of the affiliated Wellhead MBR Entities.

Filed Date: 7/25/14.

Accession Number: 20140725-5143.

Comments Due: 5 p.m. ET 8/15/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 28, 2014.
Nathaniel J. Davis, Sr.,
Deputy Secretary.

[FR Doc. 2014-18318 Filed 8-1-14; 8:45 am]

BILLING CODE 6717-01-P